POSTAL REGULATORY COMMISSION

Sunshine Act Meetings

Federal Register Citation of Previous Announcement: 75 FR 51505 (August 20, 2010).

PREVIOUSLY ANNOUNCED TIME AND DATE OF MEETING: 2:30 p.m., Friday, September 10, 2010.

CHANGES IN THE MEETING: The time of the meeting has been changed to 2:00 p.m.

CONTACT PERSON FOR MORE INFORMATION: Stephen L. Sharfman, General Counsel, 202-789-6824 or stephen.sharfman@prc.gov.

Shoshana M. Grove,
Secretary.

[FR Doc. 2010-22802 Filed 9-9-10; 11:15 am]

BILLING CODE 7710-FW-S